DEPARTMENT OF THE INTERIOR

Fish and Wildlife Service

50 CFR Part 402

[FWS-R9-ES-2008-0093]

RIN 1018-AT50

DEPARTMENT OF COMMERCE

National Oceanic and Atmospheric Administration

50 CFR Part 402

[0808011023-81048-01]

RIN 0618-AX15

Interagency Cooperation Under the Endangered Species Act

AGENCIES: U.S. Fish and Wildlife Service, Interior; National Marine Fisheries Service, Commerce.

ACTION: Proposed rule; extension of comment period.

SUMMARY: The United States Fish and Wildlife Service (FWS) and the National Marine Fisheries Service (NMFS) (collectively, “we”) are extending the comment period for proposed regulations governing interagency cooperation under the Endangered Species Act of 1973, as amended.

DATES: We must receive your comments by October 14, 2008 to ensure their full consideration in the final decision on this proposal.

ADDRESSES: Submit your comments or materials concerning this proposed rule in one of the following ways:

(1) Through the Federal eRulemaking Portal at www.regulations.gov. Follow the instructions on the Web site for submitting comments.

(2) By U.S. mail or hand-delivery to Public Comment Processing, Attention: 1018-AT50, Division of Policy and Directives Management, U.S. Fish and Wildlife Service, 4401 North Fairfax Drive, Suite 222, Arlington, VA 22203.

We will not accept e-mail or faxes. We will post all comments on http://www.regulations.gov. This generally means that we will post any personal information you provide us.

Before including your address, phone number, e-mail address, or other personal identifying information in your comment, be advised that your entire comment—including your personal identifying information—may be made publicly available at any time. While you can ask us in your comment to withhold from public review your personal identifying information, we cannot guarantee that we will be able to do so.

FOR FURTHER INFORMATION CONTACT: Office of the Assistant Secretary for Fish and Wildlife and Parks, 1849 C Street, NW., Washington, DC 20240; telephone: 202-208-4416; or James H. Lecky, Director, Office of Protected Resources, National Marine Fisheries Service, 1315 East-West Highway, Silver Spring, MD 20910; telephone: 301-713-2332.

SUPPLEMENTARY INFORMATION: The United States Fish and Wildlife Service (FWS) and the National Marine Fisheries Service (NMFS) (collectively, “we”) published a proposed rule on Interagency Cooperation under the Endangered Species Act on August 15, 2008 (73 FR 47868). The comment period for this proposed rule will end on September 15, 2008. We have received a number of written requests to extend the public comment period. We have given consideration to these requests and believe it is appropriate to provide an additional 30-day period for comment on the proposed regulation. We are therefore extending the comment period for an additional 30 days.

If you have already commented on the proposed rule you do not need to resend your comment. We will consider all comments received from the date of publication of the proposed rule through the close of the extended comment period.

Dated: September 5, 2008.
Lyle Laverty,
Assistant Secretary for Fish and Wildlife and Parks, Department of the Interior.
Dated: September 5, 2008.
Samuel D. Rauch,
Deputy Assistant Administrator for Regulatory Programs, National Marine Fisheries Service, National Oceanic and Atmospheric Administration.

[FR Doc. E8-21414 Filed 9-10-08; 4:15 pm]

BILLING CODE 4310-55-P